DEPARTMENT OF THE INTERIOR

National Park Service

[NPS-WASO-NRNHL-10550; 2200-3200-665]

National Register of Historic Places Request for Comments on Identifying, Evaluating and Documenting Traditional Cultural Properties and Native American Landscapes

AGENCY: National Park Service, Interior.

ACTION: Request for comments.

SUMMARY: Through October 31, 2012, the National Park Service (NPS) will be soliciting written comments and recommendations from its tribal, national, state, and local historic preservation partners, NPS regional offices and parks, other Federal agencies, and the public at large regarding updating National Register (NR) Program guidance for identifying, evaluating, and documenting properties that are historically significant as Traditional Cultural Properties (TCPs) and/or Native American landscapes.

DATES: Submit comments through October 31, 2012.

ADDRESSES: NPS requests that all comments and recommendations related to the issues outlined above should be forwarded via email to: nr_info@nps.gov.

FOR FURTHER INFORMATION CONTACT: Alexis Abernathy, National Register of Historic Places program, National Park Service; 1849 C Street NW (2280); Washington, DC 20240; Telephone (202) 354-2236; Email: nr_info@nps.gov.

SUPPLEMENTARY INFORMATION: With the 1990 release of National Register Bulletin 38, Guidelines for Evaluating and Documenting Traditional Cultural Properties, NPS clarified a broader scope of properties that could be considered eligible for listing in the National Register of Historic Places (NR) for their significance as Traditional Cultural Properties, and provided written guidance on working with these properties. This policy direction was followed by the provision in the 1992 amendment to the National Historic Preservation Act stating: “Properties of traditional religious and cultural importance to an Indian tribe or Native Hawaiian organization may be determined to be eligible for inclusion in the National Register.” While Bulletin 38 remains an essential, basic resource for identifying, evaluating, and documenting TCPs, in recent years the number of requests for additional assistance in this regard from State and Tribal Historic Preservation Offices, Federal agencies, and preservation professionals has increased significantly. NPS believes the best way to address these requests is through the provision of updated, published guidance on how to better identify and evaluate:

• What constitutes a “traditional” community

• “Continuity of use” by a traditional community

• Evolving uses of resources by a traditional community

• Multiple lines of documentary evidence

• Broad ethnographic landscapes

• Property boundaries

• Resource integrity

In addition to the issues noted above, NPS is also seeking to identify and address any other “user-identified” TCP-related issues, as well as requesting comments and recommendations that specifically address the development of published guidance related to identifying, evaluating, and documenting NR-eligible Native American landscapes. NPS requests that all comments and recommendations related to the issues outlined above should be forwarded via email to: nr_info@nps.gov. Respondents should identify their submission(s) as a “TCP/NAL Comment” in their email “subject” box. Responses submitted via email will be posted on an ongoing basis beginning the first week of June, 2012 on the NR Web site located at: http://www.nps.gov/history/nr/publications/guidance/TCP_comments.htm. Before including your address, phone number, email address, or other personal identifying information in your comment, you should be aware that your entire comment—including your personal identifying information—may be made publicly available at any time. While you can ask us in your comment to withhold your personal identifying information from public review, we cannot guarantee that we will be able to do so.

The National Register Program looks forward to hearing comments on these issues.

Dated: July 10, 2012.
J. Paul Loether,
Chief, National Register of Historic Places/National Historic Landmarks Program.

[FR Doc. 2012-19594 Filed 8-9-12; 8:45 am]

BILLING CODE 4312-51-P